DEPARTMENT OF HEALTH AND HUMAN SERVICES

National Committee on Vital and Health Statistics: Meeting

Pursuant to the Federal Advisory Committee Act, the U.S. Department of Health and Human Services announces the following advisory committee meeting.

Name: National Committee on Vital and Health Statistics (NCVHS).

Times and Dates: 9:00 a.m.—5:30 p.m., September 24, 2001, 9:00 a.m.—4:00 p.m., September 25, 2001.

Place: Conference Room 705A, Hubert H. Humphrey Building, 200 Independence Avenue S.W., Washington D.C. 20201.

Status: Open.

Purpose: The National Committee on Vital and Health Statistics is scheduled to meet on September 24-25, 2001. The NCVHS is the Department's statutory public advisory body on health data, statistics, and health information policy. In addition, the Committee advises HHS on the implementation of the Administrative Simplification provisions of the Health Insurance Portability and Accountability Act of 1996 (HIPPA). The meeting will focus on a variety of health data policy and privacy issues. Department officials will update the Committee on recent activities of the HHS Data Council and the status of HHS activities in implementing the administrative simplification provisions of HIPAA. A briefing from the HHS Deputy Chief Information Officer is planned, and GAO staff will brief the Committee on confidentiality practices and issues in record linkage for research purposes.

The Committee is also expected to discuss and take action on recommendations to HHS from the Privacy and Confidentiality Subcommittee relating to the implementation of the HIPAA Health Information Privacy regulation, following a subcommittee public hearing on the subject in August. Subcommittee breakout sessions also are planned.

All topics are tentative and subject to change. Prior to the meeting, please check the NCVHS web site, where a detailed agenda will be posted when available.

FOR FURTHER INFORMATION CONTACT: Substantive information as well as summaries of NCVHS meetings and a roster of committee members may be obtained by visiting the NCVHS website (http://ncvhs.hhs.gov) where an agenda for the meeting will be posted when available. Additional information may be obtained by calling James Scanlon, NCVHS Executive Staff Director, Office of the Assistant Secretary for Planning and Evaluation, DHHS, Room 440-D. Humphrey Building, 200 Independence Avenue SW., Washington, DC 20201, telephone (202) 690-7100, or Marjorie S. Greenberg, Executive Secretary, NCVHS, NCHS, CDC, Room 1100, Presidential Building, 6525 Belcrest Road, Hyattsville, Maryland 20782, telephone (301) 458-4245.

Note: In the interest of security, the Department has instituted stringent procedures for entrance to the Hubert H. Humphrey Building by non-government employees. Thus, individuals without a government identification card may need to have the guard call for an escort to the meeting room.

Dated: September 4, 2001.
James Scanlon,
Director, Division of Data Policy.

[FR Doc. 01-22820 Filed 9-11-01; 8:45 am]

BILLING CODE 4151-05-M